DEPARTMENT OF COMMERCE

National Oceanic and Atmospheric Administration

RIN 0648-XA713

Endangered Species; File Nos. 16526, 16323, 16436, 16422, 16438, 16431, 16507, 16547, 16375, 16442, 16482, and 16508

AGENCY: National Marine Fisheries Service (NMFS), National Oceanic and Atmospheric Administration (NOAA), Commerce.

ACTION: Issuance of permits.

SUMMARY: Notice is hereby given that twelve applications have been issued permits to take Atlantic sturgeon (Acipenser oxyrinchus oxyrinchus) for purposes of scientific research. See SUPPLEMENTARY INFORMATION for additional information regarding permittees.

ADDRESSES: The permits and related documents are available for review upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, Florida 33701; phone (727) 824-5312; fax (727) 824-5309.

FOR FURTHER INFORMATION CONTACT: Malcolm Mohead or Colette Cairns, (301) 427-8401.

SUPPLEMENTARY INFORMATION: On September 21, 2011, notice was published in the Federal Register (76 FR 58469) that 12 requests for scientific research permits to take Atlantic sturgeon had been submitted. The requested permits have been issued under the authority of the Endangered Species Act of 1973, as amended (ESA; 16 U.S.C. 1531 et seq.) and the regulations governing the taking, importing, and exporting of endangered and threatened species (50 CFR parts 222-226).

File No. 16526 The Maine Department of Marine Resources, Gail Wippelhauser, Ph.D., (Responsible Party (RP)), 21 State House Station, Augusta, ME 04333, was issued a five-year permit to determine the movement patterns and rate of exchange between coastal river systems in Maine, characterize the population structure, and generate estimates of population abundance. Researchers will capture adult, juvenile, and early life stage Atlantic sturgeon. Individuals will be measured, weighed, photographed, PIT tagged, Floy/T-bar tagged, tissue sampled, boroscoped, apical spine sampled, blood sampled, anesthetized, fin ray sectioned, and be implanted with an acoustic telemetry tag.

File No. 16323 The Connecticut Department of Environmental Protection Marine Fisheries, Tom Savoy (RP), PO Box 719, Old Lyme, CT 06371, was issued a five-year permit to monitor Atlantic sturgeon populations to determine behavior, movement, and current status of the species in Connecticut waters. Adult and juvenile Atlantic sturgeon will be measured, weighed, photographed, PIT and Floy/T-bar tagged, genetic tissue sampled, anesthetized, and have a fin ray clipped for ageing analysis; and a subset will be implanted with an internal sonic tag to assess movement patterns.

File No. 16436 The New York State Department of Environmental Conservation, Kathryn Hattala (RP), 21 South Putt Corners Road, New Paltz, NY 12561, was issued a five-year permit to research Atlantic sturgeon in the Hudson River estuary, specifically to assess abundance of juveniles, characterize the adult spawning stock, and generate population estimates. Captured Atlantic sturgeon will be measured, weighed, PIT and dart tagged, tissue sampled, implanted with an external telemetry tag, anesthetized, and gastric lavaged.

File No. 16422 Stony Brook University, School of Marine and Atmospheric Sciences, Michael Frisk (RP), Stony Brook, NY 11794-5000, was issued a five-year permit to research Atlantic sturgeon in the marine and estuarine waters of Connecticut, New York, New Jersey, and Delaware. To characterize Atlantic sturgeon aggregations, Atlantic sturgeon will be captured, measured, weighed, Carlin/Dart tagged, PIT tagged, anesthetized, fin ray sampled, and genetic tissue sampled. Some sturgeon will additionally be implanted internally with a satellite tag, and others will be fitted with an external pop-up satellite tag. A subset of fish will be gastric lavaged, blood sampled, and gill biopsied.

File No. 16438 Environmental Research and Consulting, Inc., Hal Brundage (RP), 126 Bancroft Road, Kennett Square, PA 19348, was issued a five-year permit to study juvenile Atlantic sturgeon abundance, distribution, movement, habitat preferences and biology in the Delaware River and Bay. Researchers will capture, measure, weigh, photograph, PIT and Floy tag, and genetic tissue sample juvenile Atlantic sturgeon. A subset will be anesthetized, gastric lavaged, blood sampled, and implanted with an internal sonic tag. Early life stage fish will also be lethally sampled.

File No. 16431 The Delaware Division of Fish and Wildlife, Stewart Michels (RP), 4876 Hay Point Landing Road, Smyrna, DE 19977, was issued a five-year permit to sample juvenile Atlantic sturgeon in the Delaware River to locate nursery habitat, and characterize population ecology and habitat use. Fish will be captured using gill nets, measured, weighed, photographed, PIT and Floy tagged, tissue sampled, anesthetized, gastric lavaged, and implanted with an internal sonic tag.

File No. 16507 Dewayne Fox, Ph.D., of Delaware State University, 1200 North DuPont Highway, Dover, DE 19901, was issued a five-year permit to sample Atlantic sturgeon in the Delaware River and Bay, as well as in the coastal waters of Delaware. The objectives of this research are to provide more detailed information on the spawning location of Atlantic sturgeon and to develop a fishery independent sampling program to help assess recovery of the species. Researchers will use gill nets to capture adult and juvenile Atlantic sturgeon and egg mats to capture larval fish. Adult and juvenile Atlantic sturgeon will be measured, weighed, photographed, PIT and Floy tagged, and tissue sampled; a subset will be anesthetized, implanted with an internal sonic tag, fin ray sampled, and gonad tissue sampled.

File No. 16547 The U.S. Fish and Wildlife Service, Albert Spells (RP), 11110 Kimages Road, Charles City, VA 23030 was issued a five-year permit to study Atlantic sturgeon in the Chesapeake Bay and its tributaries. Adult and juvenile Atlantic sturgeon will be captured using gill nets, trawls, fyke nets, trammel nets, and pound nets, and larval fish will be collected using egg mats. Adult and juvenile fish will be measured, weighed, tissue sampled, PIT and Floy tagged, and a subset of fish will have an external satellite tag attached.

File No. 16375 North Carolina State University, Joe Hightower, Ph.D., (RP), Campus Box 7617, Raleigh, NC 27695-7617, was issued a five-year permit to determine the presence, abundance, and distribution of Atlantic sturgeon in North Carolina rivers and estuaries. Researchers will use gill nets to capture adult and juvenile Atlantic sturgeon. Captured fish will be measured, weighed, photographed, PIT tagged, Floy tagged, tissue sampled, and a sub-set will be implanted with an internal sonic tag.

File No. 16442 South Carolina Department of Natural Resources, Bill Post, (RP), 217 Fort Johnson Road, Charleston, SC 29412, was issued a five-year permit to conduct scientific research on Atlantic sturgeon in the rivers and estuaries of South Carolina. Adult and juvenile Atlantic sturgeon will be captured using gill nets, and measured, weighed, photographed, PIT and dart tagged, tissue sampled, and a sub-set will be implanted with an internal satellite tag. Young of the year fish will be captured using trawls, and measured and weighed; larval fish will be collected with egg mats. This research will contribute to knowledge about Atlantic sturgeon coastal migrations and riverine movement patterns and information on the status of the species.

File No. 16482 The University of Georgia Warnell School of Forestry and Natural Resources Fisheries Division, Doug Peterson, Ph.D., (RP), Athens, GA 30602, was issued a five-year permit to determine population dynamics and seasonal habitat use of Atlantic sturgeon in Georgia. Gill nets and trammel nets will be used to capture adult and juvenile Atlantic sturgeon, which will be measured, weighed, photographed, PIT and Floy tagged, and tissue sampled; a sub-set will also be anesthetized, laproscoped, fin ray clipped, and implanted with an internal satellite tag. Egg mats and D-frame nets will be used to collect larval fish.

File No. 16508 The U.S. Geological Survey Florida Integrated Science Center, Kenneth Sulak, Ph.D., (RP), 7920 NW 71st Street, Gainesville, FL 32653, was issued a five-year permit to identify and track Atlantic sturgeon in Florida and Georgia rivers. Adult and juvenile Atlantic sturgeon will be captured using a combination of side-scan sonar and gill nets. Captured individuals will be measured, weighed, photographed, PIT and Floy tagged, tissue sampled, and have an external satellite tag attached.

Issuance of these permits, as required by the ESA, was based on a finding that the permits (1) were applied for in good faith, (2) will not operate to the disadvantage of such endangered or threatened species, and (3) are consistent with the purposes and policies set forth in section 2 of the ESA.

Dated: April 6, 2012.
Tammy C. Adams,
Acting Chief, Permits and Conservation Division, Office of Protected Resources, National Marine Fisheries Service.

[FR Doc. 2012-8752 Filed 4-10-12; 8:45 am]

BILLING CODE 3510-22-P